FEDERAL RETIREMENT THRIFT INVESTMENT BOARD

Sunshine Act; Notice of Meeting

TIME AND DATE: 9 a.m. (EST) July 18, 2011.

PLACE: 4th Floor Conference Room, 1250 H Street, NW., Washington, DC.

STATUS: Open.

MATTERS TO BE CONSIDERED:

1. Approval of the minutes of the June 23, 2011 Board member meeting.

2. Thrift Savings Plan activity report by the Executive Director.

a. Monthly Performance Activity Report.

b. Legislative Report.

3. Quarterly Reports.

a. Investment Policy Report.

b. Vendor Financial Report.

4. Budget Estimate for Fiscal Year 2012.

CONTACT PERSON FOR MORE INFORMATION: Thomas J. Trabucco, Director, Office of External Affairs, (202) 942-1640.

Dated: July 11, 2011.
Thomas K. Emswiler,
General Counsel, Federal Retirement Thrift Investment Board.

[FR Doc. 2011-17820 Filed 7-12-11; 11:15 am]

BILLING CODE 6760-01-P